DEPARTMENT OF THE INTERIOR

National Park Service

[NPS-WASO-NRNHL-24954; PPWOCRADI0, PCU00RP14.R50000]

National Register of Historic Places; Notification of Pending Nominations and Related Actions

AGENCY: National Park Service, Interior.

ACTION: Notice.

SUMMARY: The National Park Service is soliciting comments on the significance of properties nominated before January 27, 2018, for listing or related actions in the National Register of Historic Places.

DATES: Comments should be submitted by March 13, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before January 27, 2018. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

COLORADO

Grand County

Byers Peak Ranch, 1102 St. Louis Creek Rd., Fraser vicinity, SG100002177

DISTRICT OF COLUMBIA

District of Columbia

Fulford, The, 2518 17th St. NW, Washington, MP100002179

Glenn Arms, The, 2524 17th St. NW, Washington, MP100002180

INDIANA

Howard County

Tate, George and Helen, House, 114 E Jefferson St., Kokomo, SG100002182

Noble County

Kneipp Springs Historic District, 2725 & 2730 E Northport Rd., Rome City, SG100002183

Whitley County

Blue Bell Inc., Factory Building, 307 S Whitley St., Columbia City, SG100002184

IOWA

Linn County

WCF & N Center Point Depot and Substation, 700 Washington St., Center Point, SG100002185

MASSACHUSETTS

Worcester County

Fobes—O'Donnell House, 1221 Turnpike Rd., Oakham, SG100002197

MISSOURI

Christian County

Smallin Cave Historic District, 3575 N Smallin Rd., Ozark vicinity, SG100002186

NEW YORK

Erie County

West End Historic District, 90-171 W Main, 17 Park & 186-244 Franklin Sts. & 24-110 N Central Ave., Springville, SG100002187

Franklin County

Lady Tree Lodge, 21 Loon Over Ln., Saranac Lake, SG100002188

New York County

Earl Hall, 2980 Broadway, New York, SG100002189

Wayne County

Lyons Downtown Historic District, Broad bounded by Phelps, William, Butternut, Pearl & Canal with portions of Bear, Lawrence, Geneva & Water Sts., Lyons, SG100002190

RHODE ISLAND

Newport County

Kay Street—Catherine Street—Old Beach Road Historic District (Boundary Decrease), Roughly bounded by Broadway, Memorial Blvd., Whitfield Pl., Champlin & Sherman Sts., Rhode Island, Prairie & Gibbs Ave., Newport, BC100002193

Providence County

L'Union Saint Jean-Baptist d' Amerique, 1 Social St., Woonsocket, SG100002194

VIRGINIA

Virginia Beach Independent city

Thoroughgood House (Boundary Increase), Address Restricted, Virginia Beach (Independent City) vicinity, BC100002195

Virginia Beach Courthouse Village and Municipal Center Historic District, Courthouse Dr., Mattaponi, N Landing & Princess Anne Rds., Virginia Beach (Independent City), SG100002196

WISCONSIN

Milwaukee County

West St. Paul Avenue Industrial Historic District, Generally bounded by the N & S sides of & 1101-2045 W St. Paul Ave. including 272 to 405 N 12th & 324-422 N 15th Sts., Milwaukee, SG100002198

A request for removal has been made for the following resources:

COLORADO

Weld County

Windsor Milling and Elevator Co. Building, 301 Main St., Windsor, OT98001129

OREGON

Malheur County

Vale Independent Order of Odd Fellows Hall, 122 Main St. S, Vale, OT16000822

Additional documentation has been received for the following resource:

OREGON

Multnomah County

Irvington Historic District, Roughly bounded by NE Fremont, NE 27th Ave., NE Broadway, NE 7th Ave., Portland, AD10000850

Nominations submitted by Federal Preservation Officers:

The State Historic Preservation Officer reviewed the following nomination and responded to the Federal Preservation Officer within 45 days of receipt of the nomination and supports listing the property in the National Register of Historic Places.

CALIFORNIA

Siskiyou County

Camp Tulelake, Hill R., 2 mi. S of jct. with CA 161, Tulelake vicinity, SG100002176

Authority: 60.13 of 36 CFR Part 60.

Dated: January 31, 2018.
J. Paul Loether,
Chief, National Register of Historic Places/National Historic Landmarks Program and Keeper, National Register of Historic Places.

[FR Doc. 2018-03770 Filed 2-23-18; 8:45 am]

BILLING CODE 4312-52-P